DEPARTMENT OF HEALTH AND HUMAN SERVICES

Centers for Medicare & Medicaid Services

[Document Identifier: CMS-R-50]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Medical Records Review under the Prospective Payment System (PPS) and Supporting Regulations in 42 CFR 412.40-412.52 Use: The Social Security Amendments of 1983 (Pub. L. 98-21), requires quality improvement organization (QIO) review of medical services provided to Medicare beneficiaries. Review of services under the QIO program can be accomplished by individual case review and the Clinical Data Abstraction Centers (CDACs). Accordingly, QIOs must review, at the direction of CMS: (1) All anti-dumping referrals; (2) beneficiary complaints involving quality issues; (3) potential gross and flagrant violations of unnecessary admission concerns identified during project data collection; (4) requests from hospitals for higher-weighted DRG adjustments; (5) hospital and managed care plan issued notices of non-coverage; (6) specific codes for assistants at cataract surgery; and (7) cases referred by CMS, the Office of the Inspector General, the Department of Justice, the managed care appeals contractor, intermediaries, carriers, or the CDACs. Form Number: CMS-R-50 (OMB# 0938-0359); Frequency: Yearly; Affected Public: Private sector—Business or other for-profit and Not-for-profit institutions; Number of Respondents: 6,100; Total Annual Responses: 276,500; Total Annual Hours: 8,280.

To obtain copies of the supporting statement and any related forms for the proposed paperwork collections referenced above, access CMS' Web site address at http://www.cms.hhs.gov/PaperworkReductionActof1995, or e-mail your request, including your address, phone number, OMB number, and CMS document identifier, to Paperwork@cms.hhs.gov, or call the Reports Clearance Office on (410) 786-1326.

In commenting on the proposed information collections, please reference the document identifier or OMB control number. To be assured consideration, comments and recommendations must be submitted in one of the following ways by April 1, 2008:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number ___, Room C4-26-05, 7500 Security Boulevard, Baltimore, Maryland 21244-1850.

Dated: January 25, 2008.
Michelle Shortt,
Director, Regulations Development Group, Office of Strategic Operations and Regulatory Affairs.

[FR Doc. E8-1810 Filed 1-31-08; 8:45 am]

BILLING CODE 4120-01-P